AGENCY FOR INTERNATIONAL DEVELOPMENT

Notice of Public Information Collections Being Reviewed by the U.S. Agency for International Development; Comments Requested; Republication

SUMMARY: U.S. Agency for International Development (USAID) is making efforts to reduce the paperwork burden. USAID invites the general public and other Federal agencies to take this opportunity to comment on the following proposed and/or continuing information collections, as required by the Paperwork Reduction Act for 1995. Comments are requested concerning: (a) Whether the proposed or continuing collections of information are necessary for the proper performance of the functions of the agency, including whether the information shall have practical utility; (b) the accuracy of the burden estimates; (c) ways to enhance the quality, utility, and clarity of the information collected; and (d) ways to minimize the burden of the collection of information on the respondents, including the use of automated collection techniques or other forms of information technology.

DATES: Submit comments on or before May 12, 2009.

ADDRESSES: Send comments via e-mail at mgushue@usaid.gov or mail comments to: Michael Gushue, Contract Specialist, Office of Acquisition and Assistance, Policy Division, United States Agency for International Development, Ronald Reagan Building, 1300 Pennsylvania Avenue, NW., Washington, DC 20523 (202) 712-5831.

FOR FURTHER INFORMATION CONTACT: Beverly Johnson, Bureau for Management, Office of Administrative Services, Information and Records Division, United States Agency for International Development, Ronald Reagan Building, 1300 Pennsylvania Avenue, NW., Washington, DC 20523, (202) 712-1365 or via e-mail bjohnson@usaid.gov.

SUPPLEMENTARY INFORMATION: OMB No.: 0412-0570.

Form No.: N/A.

Title: USAID 22 CFR 226.91, Marking Requirements, “Branding Strategy” and “Marking Plan”.

Type of Review: Renewal of information collection.

Purpose: The information collection consists of the requirement for Apparent Successful Applicants to submit a Branding Strategy and Marking Plan as defined in the Final Rule (70 FR 50188, August 26, 2005). The information collected will be the Apparent Successful Applicant's proposal on how to brand and mark with the USAID Identity, The USAID funded program, project, activity, public communication or commodity. Respondents will consist of only those applicants for USAID funding who have been requested to submit a Branding Strategy and Marking Plan by the Agreement Officer.

Annual Reporting Burden

Respondents: 500.

Total Annual Responses: 500.

Total Annual Hours Requested: 1,750 hours.

Dated: March 3, 2009.
Sylvia Lankford,
Acting Chief, Information and Records Division, Office of Administrative Services, Bureau for Management.

[FR Doc. E9-5143 Filed 3-12-09; 8:45 am]

BILLING CODE 6116-01-M